DEPARTMENT OF DEFENSE

Office of the Secretary

Defense Science Board

AGENCY: Department of Defense

ACTION: Notice of Advisory Committee Meetings.

SUMMARY: The Defense Science Board Task Force on DoD Roles and Missions in Homeland Security will meet in closed session on January 7-;8, 2003; February 19-20, 2003, March 29-20, 2003; April 22-23, 2003; May 28-29, 2003; June 24-25, 2003; and July 16-17, 2003, at Strategic Analysis Inc., 3601 Wilson boulevard, Arlington, VA. The Task Force will review the Department of Defense (DoD) roles and missions in Homeland Security.

The mission of the Defense Science Board is to advise the Secretary of Defense and the Under Secretary of Defense for Acquisition, Technology & Logistics on scientific and technical matters as they affect the perceived needs of the Department of Defense. At these meetings, the Task Force will address: the definition of “Homeland Security” and the specific roles and missions DoD will be responsible for accomplishing; the prioritized goals for these DoD roles and missions in a national security emergency; the DoD strategy and plans for the employment of National Guard and Reserve forces capabilities to participate in Homeland Security and also respond to warfighting demands overseas; the other primary Federal agencies and the evolving new Department of Homeland Security with which DoD must develop an integrated security strategy, planning function and operational capabilities and inter-agency processes that need to be put in place; the known and many unknown vulnerabilities to DoD force projection and how projections issues and responsibilities will be addressed in the larger context of Homeland Security; and the classes of technologies and systems that DoD should have the lead in developing and fielding which have applications for homeland security as well.

In accordance with section 10(d) of the Federal Advisory Committee Act, Pub. L. 92-463, as amended (5 U.S.C. App. II), it has been determined that these Defense Science Board Task Force meetings concern matters listed in 5 U.S.C. 552b(c)(1) and that, accordingly, these meetings will be closed to the public.

Dated: November 18, 2002.
Patricia L. Toppings,
Alternate OSD Federal Register Liaison Officer, Department of Defense.

[FR Doc. 02-30272 Filed 11-27-02; 8:45 am]

BILLING CODE 5001-08-M